DEPARTMENT OF TRANSPORTATION

Federal Aviation Administration

14 CFR Part 39

[Docket No. FAA-2017-0812; Product Identifier 2016-NM-198-AD]

RIN 2120-AA64

Airworthiness Directives; Airbus SAS Airplanes

AGENCY: Federal Aviation Administration (FAA), DOT.

ACTION: Proposed rule; withdrawal.

SUMMARY: The FAA withdraws a notice of proposed rulemaking (NPRM) that proposed a new airworthiness directive (AD), which would have applied to all Airbus SAS Model A330-200 Freighter, A330-200, and A330-300 series airplanes. The NPRM would have required reinforcement modifications of various structural parts of the fuselage, and related investigative and corrective actions if necessary. Since the NPRM was issued, we have determined that more restrictive maintenance requirements are necessary and that the NPRM does not adequately address the identified unsafe condition. Accordingly, the NPRM is withdrawn.

DATES: As of May 13, 2019, the proposed rule, which was published in the Federal Register on September 19, 2017 (82 FR 43715), is withdrawn.

ADDRESSES: You may examine the AD docket on the internet at http://www.regulations.gov by searching for and locating Docket No. FAA-2017-0812; or in person at the Docket Management Facility between 9 a.m. and 5 p.m., Monday through Friday, except Federal holidays. The AD docket contains this AD action, the NPRM (82 FR 43715, September 19, 2017) (“the NPRM”), the regulatory evaluation, any comments received, and other information. The address for the Docket Office (telephone 800-647-5527) is the Docket Management Facility, U.S. Department of Transportation, Docket Operations, M-30, West Building Ground Floor, Room W12-140, 1200 New Jersey Avenue SE, Washington, DC 20590.

FOR FURTHER INFORMATION CONTACT: Vladimir Ulyanov, Aerospace Engineer, International Section, Transport Standards Branch, FAA, 2200 South 216th St., Des Moines, WA 98198; telephone and fax 206-231-3229.

SUPPLEMENTARY INFORMATION:

Discussion

We proposed to amend part 39 of the Federal Aviation Regulations (14 CFR part 39) with a NPRM for a new AD for all Airbus SAS Model A330-200 Freighter, A330-200, and A330-300 series airplanes. The NPRM published in the Federal Register on September 19, 2017 (82 FR 43715). The NPRM would have required reinforcement modifications of various structural parts of the fuselage, and related investigative and corrective actions if necessary. The NPRM was prompted by an evaluation by the design approval holder (DAH) indicating that certain fuselage structures are subject to widespread fatigue damage (WFD). The proposed actions were intended to prevent crack initiation and undetected propagation in the fuselage, which could result in reduced structural integrity of the airplane.

Actions Since NPRM Was Issued

Since we issued the NPRM, Airbus SAS developed new modifications for Model A330-200 Freighter series airplanes and issued associated service information. In addition, for certain required modifications, upper thresholds in flight hours have been defined and the applicability of certain required actions was redefined to certain airplane configurations. In light of these changes, we are considering further rulemaking.

Comments

We gave the public the opportunity to participate in considering the proposal. The following presents the comments received on the proposal and the FAA's response to each comment.

Support for the NPRM

The commenters Grant Bingham, Ryan Pearson, Nicole Pfeffer, and Dyess Verfuth indicated their support for the NPRM.

Requests To Publish One AD for Each Individual Piece of Service Information

American Airlines (AAL) and Delta Airlines (DAL), speaking also on behalf of Hawaiian Airlines, requested that the proposed AD be separated into several ADs, preferably with one AD issued per one piece of service information. All commenters pointed to the extreme difficulty of capturing and tracking the various tasks and compliance times for each airplane configuration on the respective operator's maintenance tracking system. AAL contended that the variety of maintenance thresholds, tasks, and service information that fall under the requirements of one AD would force the development of an untested workaround within their maintenance tracking system. AAL noted that their system is optimally designed for one service bulletin per one AD. DAL further argued that the request to separate this proposed AD into one AD per individual piece of service information was consistently requested by numerous operators since 2014 at Industry Structures Task Group meetings.

Additionally, both commenters reasoned that if any of the associated service information was revised or the proposed AD was superseded, the resulting update and revision of their own associated internal documentation would cause a substantial burden on the operators. AAL pointed out that such a large-scale revision to compliance documentation may result in unnecessary confusion between the operators and the local FAA authority. AAL went on to note that if an alternate method of compliance were issued for a specific situation or piece of service information, AAL would be obligated to revise their internal documentation as well, resulting in an increased burden on operators.

AAL also expressed concern that, due to the wide range of maintenance thresholds, the possibility exists that they may never be able to show accomplishment of the proposed AD. AAL explained that in several instances the maintenance thresholds are so high that their airplanes may never reach the threshold specified by certain service information, which may result in the appearance that they have not yet accomplished service information that specifies action at higher thresholds, even as they are complying with other service information that specifies action at lower thresholds.

We acknowledge the commenters' request and justifications. We have withdrawn this proposed AD. We are considering further rulemaking that clarifies the applicability of modifications to Airbus SAS Model A330-200 Freighter series airplanes and its associated service information, defines upper thresholds in flight hours for certain airplanes, and redefines the applicability of some required actions to certain airplane configurations.

Requests To Reference the Latest Service Information

AAL and DAL noted that, since the proposed AD was issued, revised service information is available and they have requested that we update the proposed AD to reference the latest service information. The commenters also requested that we revise the proposed AD to include previous revisions of the service information as credit for operators who have already accomplished the proposed actions using those revisions.

We acknowledge the commenter's requests. We are considering further rulemaking, which would refer to the latest service information available, and, if appropriate, allow previous revisions of the service information as credit for operators who have already accomplished the proposed actions using those revisions.

FAA's Conclusions

Upon further consideration, we have determined that more restrictive maintenance requirements are necessary and that the NPRM does not adequately address the identified unsafe condition. Accordingly, the NPRM is withdrawn.

Withdrawal of the NPRM does not preclude the FAA from issuing another related action or commit the FAA to any course of action in the future.

Regulatory Impact

Since this action only withdraws an NPRM, it is neither a proposed nor a final rule and therefore is not covered under Executive Order 12866, the Regulatory Flexibility Act, or DOT Regulatory Policies and Procedures (44 FR 11034, February 26, 1979).

List of Subjects in 14 CFR Part 39

Air transportation, Aircraft, Aviation safety, Incorporation by reference, Safety.

The Withdrawal

Accordingly, we withdraw the NPRM, Docket No. FAA-2017-0812, Product Identifier (formerly Directorate Identifier) 2016-NM-198-AD, which was published in the Federal Register on September 19, 2017 (82 FR 43715).

Issued in Des Moines, Washington, on May 3, 2019.
Mike Kaszycki,
Acting Director, System Oversight Division, Aircraft Certification Service.

[FR Doc. 2019-09742 Filed 5-10-19; 8:45 am]

BILLING CODE 4910-13-P